DEPARTMENT OF COMMERCE

National Oceanic and Atmospheric Administration

National Oceanic and Atmospheric Administration (NOAA) Cooperative Institute (CI) Interim Handbook, Version 1.0, December 2005

AGENCY: Office of Oceanic and Atmospheric Research (OAR), National Oceanic and Atmospheric Administration (NOAA), Department of Commerce (DOC).

ACTION: Notice and request for public comments.

SUMMARY: NOAA publishes this notice to announce the implementation of the new NOAA Policy on Cooperative Institutes (NOAA Administrative Order Series, NAO 216-107, effective date September 2, 2005); and the availability of the NOAA CI Interim Handbook, Version 1.0, December 2005, for public comment.

DATES: Comments on this draft document must be submitted by January 18, 2006.

ADDRESSES: The NOAA CI Interim Handbook is available at http://www.nrc.noaa.gov/ci/docs/fedreg/ci-handbook120505.pdf.

The public is encouraged to submit comments on the NOAA CI Interim Handbook (CI Handbook) electronically to coop.inst@noaa.gov. For commenters who do not have access to a computer, comments on the CI Handbook may be submitted in writing to Dr. John Cortinas, Office of Oceanic and Atmospheric Research, Laboratories and Cooperative Institutes Office, 1315 East West Highway, R/LCx2, Silver Spring, Maryland 20910.

FOR FURTHER INFORMATION CONTACT: Dr. John Cortinas, Office of Oceanic and Atmospheric Research, Laboratories and Cooperative Institutes Office, 1315 East West Highway, R/LCx2, Silver Spring, Maryland 20910, Phone (301) 713-9121 ext. 206.

SUPPLEMENTARY INFORMATION: The CI Handbook is being issued pursuant to the authority of NAO 216-107, NOAA Policy on Cooperative Institutes (http://www.corporateservices.noaa.gov/~ames/NAOs/Chap_216/naos_216_107.html; hereafter, referred to as the NOAA CI Policy), Section 1.03 (2005), and applies to all NOAA Line Offices. The NOAA CI Policy originated from the January 2004 NOAA Science Advisory Board (SAB) recommendation to develop a NOAA-wide process by which CIs are established and maintained. A copy of the SAB report is available at http://www.sab.noaa.gov/Reports/RRT_Report-080604.pdf. The final NOAA CI Policy and the CI Handbook were developed after soliciting public comments on the document entitled, “Proposed NOAA Policy and Process for Creating and Managing Cooperative Institutes”, (70 FR 11195, March 8, 2005). All comments received by NOAA during that period were considered when writing the NOAA CI Policy and the CI Handbook.

The CI Handbook outlines procedures for establishing, soliciting, awarding, maintaining, reviewing, renewing, and closing NOAA CIs. The CI Handbook references policies and procedures for use by NOAA Line Offices (LOs) for ensuring the consistent implementation of legislation, regulations, Office of Management and Budget (OMB) circulars, executive orders (EOs) and the Department of Commerce (DOC) Grants and Cooperative Agreements Interim Manual (http://oam.ocs.doc.gov/GMD_interimManual.html; hereafter referred to as the DOC Manual). The CI Handbook is being issued as supplemental operating unit-specific policies and procedures to cover items not covered by the DOC Manual to address programmatic requirements for the NOAA CIs, and does not conflict with the provisions of the DOC Manual.

The CI Handbook applies to all NOAA CIs established after the effective date of NAO 216-107 and to all competitive NOAA CIs established under the DOC Manual from February, 2002 through September 2, 2005. All other CIs established prior to the effective date of the NAO will continue to be maintained by the responsible NOAA LO under the terms of their existing agreement and extension, but will be subject to the guidelines of the CI Handbook to the maximum extent possible.

NOAA has elected to issue an interim Handbook and to make it immediately effective, to the extent practicable, since it is extremely important to provide NOAA LOs with interim direction to ensure consistent interpretation and implementation of the NAO. NOAA is also committed to provide adequate opportunities for the public to comment on the administrative policies of the NOAA CIs and is now requesting public comment on the CI Handbook. All comments will be considered in the development of the final version of the CI Handbook.

NOAA welcomes all comments on the content of the CI Handbook, particularly those on any inconsistencies perceived within the CI Handbook and possible omissions of important topics or issues. For any shortcoming noted within the CI Handbook, please propose specific remedies.

Please submit comments according to the instructions detailed herein for preparing and submitting your comments. Using the format guidance described below will facilitate the consideration of all reviewer comments and ensure proper receipt. Please provide background information about yourself on the first page of your comments: Your name(s), organization(s), and area(s) of expertise, mailing address(es), and telephone and fax number, e-mail address(es). Overview comments should follow your background information and should be numbered. Comments that are specific to particular pages and paragraphs should follow any overview comments and should identify the page and paragraph numbers to which they apply. Please number and print identifying information at the top of all pages.

The full text of the CI Interim Handbook is available on the World Wide Web at http://www.nrc.noaa.gov/ci/docs/fedreg/ci-handbook120505.pdf. Paper copies are available upon request from the address and phone numbers listed earlier in this notice. All public comments will be accessible on http://www.nrc.noaa.gov/ci.

Dated: November 29, 2005.
John L. Hayes,
Deputy Assistant Administrator, Office of Oceanic and Atmospheric Research, National Oceanic and Atmospheric Administration.

[FR Doc. E5-6765 Filed 12-1-05; 8:45 am]

BILLING CODE 3510-JE-P